DEPARTMENT OF HEALTH AND HUMAN SERVICES

Administration for Children and Families

Submission for OMB Review; Comment Request

Title: Examining Services and Best Practices of Intermediary Organizations and the Faith- and Community-Based Organizations They Serve.

OMB No.: New Collection.

Description: Currently, the Administration for Children and Families, Department of Health and Human Services, is conducting the project “Examining Services and Best Practices of Intermediary Organizations and the Faith- and Community-Based Organizations They Serve.” The purpose of the project is to examine (1) the role of intermediary organizations in assisting faith- and community-based organizations in building their capacity to serve needy individuals and families; (2) innovative and best practices among intermediary organizations; (3) promising practices among faith- and community-based organizations; (4) methods to evaluate the services of both types of organizations; and (5) methods to assess and benchmark performance among faith- and community-based groups. Priority will be given to programs that focus on the following areas; homelessness, hunger, at-risk children, transition from welfare to work, and intensive rehabilitation. The project involves the conduct of case studies of up to 10 intermediary organizations and approximately three to four faith-based and community-based organizations that receive assistance or services from each of the intermediaries. Information collection will be through informal discussions and observations on-site at the organizations, using uniform protocols.

Respondents:

Annual Burden Estimates
Instrument | Number of respondents | Number of responses per respondent | Average burden hours per response | Total burden hours
Intermediary Staff Interview Guide | 40 | 2 | 2.5 | 200
Intermediary Staff Interview Guide | 80 | 2 | 1.5 | 240
Estimated Total Annual Hours |  |  |  | 400

Additional Information: Copies of the proposed collection may be obtained by writing to the Administration for Children and Families, Office of Administration, Office of Information Services, 370 L'Enfant Promenade, SW., Washington, DC 20447, Attn: ACF Reports Clearance Officer. E-mail address: rsargis@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACF, E-mail address: lauren_wittenberg@omb.eop.gov.

Dated: June 3, 2003.
Robert Sargis,
Reports Clearance Officer.

[FR Doc. 03-14473 Filed 6-6-03; 8:45 am]

BILLING CODE 4184-01-M